DEPARTMENT OF AGRICULTURE

Rural Business-Cooperative Service

Rural Housing Service

Rural Utilities Service

Notice of Solicitation of Applications (NOSA) for the Strategic Economic and Community Development Programs for Fiscal Year (FY) 2015

AGENCY: Rural Business-Cooperative Service, Rural Housing Service, and Rural Utilities Service, USDA.

ACTION: Notice.

SUMMARY: Section 6025 of the Agricultural Act of 2014 (2014 Farm Bill) enables the Secretary of Agriculture to provide priority to projects that support Strategic Economic and Community Development plans. This Notice invites applicants who have submitted or will be submitting applications for the programs (referred to as “underlying programs”) in Fiscal Year 2015.

For FY 2015, projects eligible for Section 6025 priority points will compete one time with all other projects eligible for the applicable underlying program's year-end pool of funds. These priority points are not eligible to projects competing for FY 2015 funding prior to the program's year-end pool of funds competition.

All applicants are responsible for any additional expenses incurred in preparing and submitting Form RD 1980-88.

DATES: To apply for Section 6025 priority points, applicants must submit Form RD 1980-88, “Strategic Economic and Community Development (section 6025) Priority,” by 5:00 p.m. Eastern Time on July 31, 2015.

ADDRESSES: Submit Form RD 1980-88 to the USDA Rural Development Area Office servicing the area where the project is located. A list of the USDA Rural Development Area Offices can be found listed by state at: http://www.rd.usda.gov/contact-us/state-offices.

FOR FURTHER INFORMATION CONTACT: Please contact the USDA Rural Development Area Office servicing the area where the project will be located.

SUPPLEMENTARY INFORMATION:

Overview

Solicitation Title: Strategic Economic and Community Development.

Announcement Type: Notice.

Catalog of Federal Domestic Assistance Number: 10.351, 10.760, 10.766 and 10.768.

All active CFDA programs can be found at www.cfda.gov.

Dates: For the list of dates please refer back to the summary section above.

Availability of Notice: This Notice is available through the USDA Rural Development Web site at http://www.rd.usda.gov/about-rd/offices/community-economic-development.

I. Funding Opportunity Description

A. Purpose

The purpose of Section 6025 of the 2014 Farm Bill is to give priority to projects that support strategic economic development or community development plans when applying for funds through the underlying programs. This Notice provides applicants with eligible projects the opportunity to receive additional priority when competing for one of the underlying program's year-end pool of funds for Fiscal Year 2015.

B. Statutory Authority

This priority is authorized under Section 6025 of the 2014 Farm Bill.

C. Programs

Based on Section 6025 of the 2014 Farm Bill, the Agency is making available additional priority points for projects that support strategic economic or community development plans to the following Rural Development programs:

• Community Facility Loans

• Fire and Rescue and Other Small Community Facilities Projects

• Community Facilities Grants

• Community Programs Guaranteed Loans

• Water and Waste Disposal Programs Guaranteed Loans

• Water and Waste Loans and Grants

• Business and Industry Guaranteed Loans

• Rural Business Development Grants

II. Award Information

Type of Awards: Guaranteed loans, direct loans and Grants.

Fiscal Year Funds: FY 2015; year-end pools of funds only.

Available Funds: The amount of funds available will depend on the amount of funds available at the time of year-end pooling and will vary among the underlying programs.

Award Amounts: Guaranteed loans, direct loans and grants will be awarded in amounts consistent with each applicable underlying program.

Award Dates: Awards will be made on or before September 30, 2015.

III. Eligibility Information

A. Eligible Requirements

In order to be considered for Section 6025 priority points, both the applicant and project must meet the eligibility requirements of the underlying program. These requirements vary among the underlying programs and the applicant is referred to the regulations for those programs.

The regulation implementing the Section 6025 priority does not make any changes to any of the applicant eligibility requirements of the underlying programs. However, the Section 6025 regulation does include three criteria that a project must meet in order to be considered for Section 6025 priority points (see 7 CFR 1980.1010).

The first criterion, as noted above, is that the project meets the applicable eligibility requirements of the underlying program for which the applicant is applying.

The second criterion is that the project is “carried out solely in a rural area” as defined in 7 CFR 1980.1005. As defined, this means either the entire project is physically located in a rural area or all of the beneficiaries of the service(s) provided through the project must either reside in or be located in a rural area. Note that the definition of “rural” varies among the underlying programs and the Section 6025 regulation does not change those definitions.

The third criterion is that the project support the implementation of a strategic economic development or community development plan on a multi-jurisdictional basis as defined in 7 CFR 1980.1005.

B. Cost Sharing or Matching

Any and all cost sharing, matching, and cost participation requirements of the applicable underlying program apply to projects seeking Section 6025 priority points. The Section 6025 regulation does not change such requirements.

C. Other Eligibility Requirements

Any and all other eligibility requirements (beyond those identified in III.A of this Notice) found in the underlying programs apply to applicants, their projects, and the beneficiaries of those projects are unchanged by either this Notice or the Section 6025 regulation.

IV. Form RD 1980-88

A. Address To Request Form RD 1980-88

Applicants responding to this Notice should contact the Rural Development Area Office identified in the ADDRESSES portion of this Notice to obtain copies of Form RD 1980-88 and any supplemental information.

B. Content

To be considered for Section 6025 priority points, applicants must submit a complete Form RD 1980-88. This form requests such information as (see 7 CFR 1980.1015):

• Identification of whether the applicant includes a State, county, municipal, or tribal government;

• Identification by name of the plan being supported by the project, the date the plan became effective and is to remain in effect, and a detailed description of how the project directly supports one or more of the plan's objectives;

• Sufficient information to show that the project will be carried out solely in a rural area; and

• Identification of any current or previous applications the applicant has submitted for funds from the underlying programs.

C. Submission of Form RD 1980-88

If an applicant has already submitted an application for one of the underlying programs and the applicant wishes to be considered for Section 6025 priority points, that applicant must submit Form RD 1980-88 by close of business on the date listed in the DATES section of this Notice for that program.

If an applicant has not submitted an application for one of the underlying programs and that program is still accepting applications for FY 2015 funding, the applicant must submit Form RD 1980-88 at the same time the applicant submits the application material for the underlying program. However, in no case will Section 6025 priority points be considered for projects whose applications are received after close of business on the date listed in the DATES section of this Notice for the applicable program.

D. Completeness Eligibility

Failure to submit a complete Form RD 1980-88 may result in not receiving Section 6025 priority points.

V. Application Evaluation and Selection for Year-End Pool of Funds

All FY 2015 applications for underlying programs will be reviewed, evaluated, and scored based on the underlying program's scoring criteria. This Notice does not affect that process. This Notice only affects the scoring of applications being competed for an underlying program's year-end pool of funds.

A. Scoring of Applications

All eligible and complete applications competing for an underlying program's year-end pool of funds will be evaluated and scored based on the criteria of the applicable underlying program, whether or not the applicant seeks Section 6025 priority points by submitting Form RD 1980-88 in accordance with this Notice.

For applicants wishing to be considered for Section 6025 priority points as described in this Notice, the Agency will review, evaluate, and score each Form RD 1980-88 based on the criteria specified in 7 CFR 1980.1020. These criteria address:

• The proposed project's direct support of the objectives found in the strategic economic development or community development plan that it supports (7 CFR 1980.1020(b)(1)) and

• Certain characteristics (as specified in the authorizing statute) of strategic economic development or community plan that the proposed project support (7 CFR 1980.1020(b)(2)).

The scores from these two areas will be summed with the score derived from the underlying programs' criteria. Applications for the underlying programs that do not submit Form 1980-88 for Section 6025 priority will be scored based only on the applicable underlying program's scoring criteria. Thus, applications supplemented with Form RD 1980-88 will be eligible for a higher total score than applications without Form RD 1980-88 and will, in general, receive higher priority for funding.

B. Selection Process

The Agency will select the highest scoring applications competing for an underlying program's year-end pool of funds based on the award process for the underlying program to determine which projects receive funds except that:

• An application's total score will be determined in accordance with section V.A. of this Notice and

• To the extent provided by the underlying programs in this Notice, the Agency will encourage awarding “Section 6025 priority” applications in as many States and for as many of the underlying programs as possible by awarding discretionary points provided for diversification or other permissible purposes.

VI. Award Administration Information

A. Award Notices

The Agency will notify applicants who receive funding from the year-end pool of funds in a manner consistent with award notifications for the underlying program.

B. Administrative and National Policy Requirements

Any and all additional requirements of the applicable underlying programs apply to projects receiving funding in response to this Notice. Please see the regulations for the applicable underlying program.

C. Reporting Requirements

Any and all post-award reporting requirements contained in the underlying program apply to all projects receiving funding in response to this Notice.

Applicants who are selected for funding in response to this Notice (i.e., those applicants who submit Form RD 1980-88 and receive funding from the underlying program's year-end pool of funds) are required to submit information in accordance with 7 CFR 1980.1026. This information is on the project's measures, metrics, and outcomes that the awardee would already be submitting to the appropriate entity(ies) monitoring the implementation of the plan.

VII. Agency Contacts

For general questions about this announcement, please contact your USDA Rural Development Area Office provided in the ADDRESSES section of this Notice.

VIII. Additional Information

Paperwork Reduction Act

In accordance with the Paperwork Reduction Act of 1995, the information collection requirements contained in 7 CFR part 1980, subpart K, have been approved by OMB under OMB Control Number 0570-0068 via emergency approval.

National Environmental Policy Act

This Notice of Solicitation of Applications has been reviewed in accordance with 7 CFR part 1940, subpart G, “Environmental Program.” The issuance of regulations and instructions, as well as amendments to them, describing administrative and financial procedures for the Agency's financial programs is categorically excluded in the Agency's NEPA regulation. Thus, in accordance with the National Environmental Policy Act (NEPA) of 1969 (42 U.S.C. 4321-4347), the Agency has determined that this notice does not constitute a major Federal action significantly affecting the quality of the human environment.

Federal Funding Accountability and Transparency Act

All applicants, in accordance with 2 CFR part 25, must have a DUNS number, which can be obtained at no cost via a toll-free request line at 1-866-705-5711 or online at http://fedgov.dnb.com/webor. Similarly, all grant applicants must be registered in the System for Award Management (SAM) prior to submitting an application. Applicants may register for the SAM at http://www.sam.gov. All recipients of Federal financial grant assistance are required to report information about first-tier sub-awards and executive total compensation in accordance with 2 CFR part 170.

Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing, or have speech disabilities and wish to file either an EEO or program complaint may contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: May 22, 2015.
Lisa Mensah,
Under Secretary, Rural Development.

[FR Doc. 2015-13100 Filed 5-29-15; 8:45 am]

BILLING CODE 3410-XY-P